DEPARTMENT OF TRANSPORTATION

National Highway Traffic Safety Administration

[Docket No. NHTSA-2022-0077]

Agency Information Collection Activities; Submission to the Office of Management and Budget for Review and Approval; Request for Comment; Alcohol-Impaired Driving Segmentation Study

AGENCY: National Highway Traffic Safety Administration (NHTSA), Department of Transportation (DOT).

ACTION: Notice and request for comments on a request for approval of a new information collection.

SUMMARY: In compliance with the Paperwork Reduction Act of 1995 (PRA), this notice announces that the Information Collection Request (ICR) summarized below will be submitted to the Office of Management and Budget (OMB) for review and approval. The ICR describes the nature of the information collection and its expected burden. This document describes a new information collection for consumer research purposes regarding a one-time online voluntary study to better understand attitudes and behaviors related to alcohol-impaired driving that will enhance and refine communication strategy and tactics. A Federal Register Notice with a 60-day comment period soliciting comments on the following information collection was published on June 7, 2023, Document 2023-12102. Two (2) comments were received before the closing date of August 7, 2023.

DATES: Comments must be submitted on or before November 20, 2023.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Kil-Jae Hong, Marketing Specialist, Office of Communications and Consumer Information (NCO-200), 202-493-0524, National Highway Traffic Safety Administration, U.S. Department of Transportation, 1200 New Jersey Avenue SE, Washington, DC 20590. Please identify the relevant collection of information by referring to its OMB Control Number.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted OMB.

Title: Alcohol-Impaired Driving Segmentation Study.

OMB Control Number: 2127-New.

Form Number: NHTSA Form 1710, NHTSA Form 1711.

Type of Request: Request for approval of a new information collection.

Type of Review Requested: Regular.

Length of Approval Requested: Three years from approval date.

Summary of the Collection of Information: The National Highway Traffic Safety Administration (NHTSA), under the U.S. Department of Transportation (USDOT), was established to reduce the number of deaths, injuries and economic losses resulting from motor vehicle crashes on the nation's highways. In keeping with this mission and to fulfill a congressional mandate to improve highway traffic safety, NHTSA's Office of Communications and Consumer Information (OCCI) is dedicated to eliminating risky behaviors on our nation's roads through public awareness campaigns. One of the most significant NHTSA's OCCI seeks to address through these efforts is drunk driving.

Drunk driving is a significant cause of highway fatalities, injuries and economic losses. Alcohol-impaired driving fatalities totaled 11,654 in 2020, accounting for 30% of all motor-vehicle-crash fatalities.¹ On average, in 2020, there was an alcohol-impaired driving fatality every 45 minutes.² Among motorcycle riders, in particular, 27% of riders in fatal crashes were legally drunk—a rate exceeding that of passenger car drivers (23%) and the highest among all vehicle types measured.³ Aside from the fatalities, alcohol-impaired driving crashes carried an economic cost of an estimated $44 billion in 2010 (the most recent year for which cost data is available).⁴

¹ 2020 Alcohol Impaired Driving (Traffic Safety Facts. Report No. DOT HS 813 294).

² Ibid.

³ Ibid.

⁴ National Center for Statistics and Analysis. (2015, July). Overview: 2013 data. (Traffic Safety Facts. Report No. DOT HS 812 169). Washington, DC: National Highway Traffic Safety Administration.

In order for NHTSA's public awareness campaigns on drunk driving to be effective, they must effectively “compete” for audience attention in the public domain among hundreds of other major marketers, including those in the alcoholic beverage industry that strategically target messages to particular groups of the public marketplace. In the consumer marketing context and environment, NHTSA must work to convince members of the driving/riding public not to operate vehicles when impaired by alcohol. Accordingly, NHTSA finds that it is necessary to conduct research, as authorized by the National Traffic Motor Vehicle Safety Act, to conduct research that will allow NHTSA to better tailor its communication strategies.

Specifically, NHTSA believes a segmentation analysis would be especially useful to NHTSA. More closely understanding and segmenting drunk drivers and motorcycle riders will enable more effective communications programs. Insights about drunk drivers'/motorcycle riders' lifestyle characteristics, alcohol-consumption behaviors and attitudes towards drunk driving will provide useful, pragmatic information for NHTSA's continuing efforts to address the drunk driving/motorcycle riding issue responsible for so many deaths.

Accordingly, NHTSA is seeking approval to conduct a one-time voluntary study to obtain information to better understand attitudes and behaviors related to alcohol-impaired driving that will be used to enhance and refine communication strategy and tactics (i.e., more effectively target and message at-risk drivers and motorcycle riders). The study will survey drivers and motorcycle riders ages 21- to 54-years-old because this age range represents the greatest number of alcohol-related driving/riding fatalities according to NHTSA's Fatality Analysis Reporting System (FARS).⁵

⁵ 2020 Alcohol Impaired Driving (Traffic Safety Facts. Report No. DOT HS 813 294).

The research study will include two components, both being one-time collections. The first component will involve a series of online webcam interviews that will collect qualitative information that will serve as a cognitive test to improve the quantitative survey that will be administered in the second component. The quantitative survey will be administered online and by phone (and potentially supplemented by mail if needed). After collecting the data, segmentation analysis will be done to classify drivers and motorcycle riders according to segments based on common demographics, drinking behaviors, attitudes about drinking and driving/motorcycle riding, and lifestyle characteristics. The segmentation profiles will be used by NHTSA's Office of Communications and Consumer Information (OCCI) to better target and reach intended audiences with communications messages and techniques that are relevant and meaningful to people within the target market.

60-Day Notice: A Federal Register notice with a 60-day comment period soliciting public comments on the following information collection was published on June 7, 2023 (FR Doc. 2023-12102). NHTSA received two (2) comments. NHTSA received comments from the National Association of Mutual Insurance Companies (NAMIC) and Responsibility.org. Both NAMIC and Responsibility.org supported NHTSA's alcohol-segmentation study efforts to inform communications initiatives to prevent alcohol-impaired driving and both requested future consideration to collaborate on communications efforts. [insert whether we received comments and if so, how many.

NHTSA Response: NHTSA appreciates the support from NAMIC and Responsibility.org. NHTSA recognizes the actions that both are taking to help communicate the dangers of impaired driving and the efforts that they are taking to decrease this behavior on US roadways. NHTSA looks forward to completing this study, sharing the results, and having discussions with both NAMIC and Responsibility.org on how we can work together to decrease impaired-driving crashes, injuries and fatalities in the US.

Affected Public: Vehicle Drivers and Motorcycle Riders ages 21-54 (English and Spanish-speaking).

Estimated Number of Respondents: 5,400.

Frequency: One-time.

Number of Responses: 5,400.

Estimated Total Annual Burden Hours: 3,574.67.

Estimated Total Annual Burden Cost: $119,250.99.

Public Comments Invited: You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

Authority: The Paperwork Reduction Act of 1995; 44 U.S.C. Chapter 35, as amended; 49 CFR 1.49; and DOT Order 1351.29A.

Issued on October 16, 2023.
Juliette Marie Vallese,
Associate Administrator, Office of Communications and Consumer Information.

[FR Doc. 2023-23076 Filed 10-18-23; 8:45 am]

BILLING CODE 4910-59-P